DEPARTMENT OF TRANSPORTATION

Federal Aviation Administration

14 CFR Part 71

[Docket No. FAA-2015-4513; Airspace Docket No. 15-AEA-8]

Amendment of Class D and Class E Airspace; Hagerstown, MD

AGENCY: Federal Aviation Administration (FAA), DOT.

ACTION: Final rule.

SUMMARY: This action amends Class E Airspace Designated as an Extension to a Class D Surface Area by eliminating the Notice to Airmen (NOTAM) part time status for Hagerstown Regional Airport-Richard A. Henson Field, Hagerstown, MD, for the safety and management of IFR operations. Also, this action recognizes the name change to Hagerstown Regional Airport-Richard A. Henson Field, (formerly Washington County Regional Airport), Hagerstown, MD, and updates the geographic coordinates of the airport listed in Class D and E airspace.

DATES: Effective 0901 UTC, November 10, 2016. The Director of the Federal Register approves this incorporation by reference action under title 1, Code of Federal Regulations, part 51, subject to the annual revision of FAA Order 7400.11 and publication of conforming amendments.

ADDRESSES: FAA Order 7400.11A, Airspace Designations and Reporting Points, and subsequent amendments can be viewed online at http://www.faa.gov/air_traffic/publications/. For further information, you can contact the Airspace Policy Group, Federal Aviation Administration, 800 Independence Avenue SW., Washington, DC 20591; telephone: 202-267-8783. The Order is also available for inspection at the National Archives and Records Administration (NARA). For information on the availability of FAA Order 7400.11A at NARA, call 202-741-6030, or go to http://www.archives.gov/federal_register/code_of_federal-regulations/ibr_locations.html.

FAA Order 7400.11, Airspace Designations and Reporting Points, is published yearly and effective on September 15.

FOR FURTHER INFORMATION CONTACT: John Fornito, Operations Support Group, Eastern Service Center, Federal Aviation Administration, P.O. Box 20636, Atlanta, Georgia 30320; telephone (404) 305-6364.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part, A, Subpart I, Section 40103. Under that section, the FAA is charged with prescribing regulations to assign the use of airspace necessary to ensure the safety of aircraft and the efficient use of airspace. This regulation is within the scope of that authority as it amends Class D and Class E airspace at Hagerstown Regional Airport-Richard A Henson Field, Hagerstown, MD.

History

On February 4, 2016, the FAA published in the Federal Register a notice of proposed rulemaking (NPRM) to amend Class E Airspace Designated as an Extension to a Class D Surface Area at Hagerstown Regional Airport-Richard A Henson Field, Hagerstown, MD, (81 FR 5949) Docket No. FAA-2015-4513, by eliminating the NOTAM information, and changing the airport name and geographic coordinates. This action also amends the Class E Surface Area Airspace, previously omitted, for the airport. Interested parties were invited to participate in this rulemaking effort by submitting written comments on the proposal to the FAA. No comments were received.

Class D and E airspace designations are published in paragraphs 5000, 6002, 6004, and 6005 of FAA Order 7400.11A dated August 3, 2016, and effective September 15, 2016, which is incorporated by reference in 14 CFR part 71.1. The Class D and E airspace designations listed in this document will be published subsequently in the Order.

Availability and Summary of Documents for Incorporation by Reference

This document amends FAA Order 7400.11A, Airspace Designations and Reporting Points, dated August 6, 2016, and effective September 15, 2016. FAA Order 7400.11A is publicly available as listed in the ADDRESSES section of this document. FAA Order 7400.11A lists Class A, B, C, D, and E airspace areas, air traffic service routes, and reporting points.

The Rule

This amendment to Title 14, Code of Federal Regulations (14 CFR) part 71 amends Class E Airspace designated as an extension to a Class D surface area at Hagerstown Regional Airport-Richard A. Henson Field, Hagerstown, MD, by eliminating the NOTAM information from the regulatory text that reads, “This Class E airspace area is effective during the specific dates and time established in advance by Notice to Airmen. The effective date and time will thereafter be continuously published in the Airport/Facility Directory.” This action also changes the airport name and ILS Localizer from Washington County Regional Airport to Hagerstown Regional Airport-Richard A. Henson Field, and adjusts the geographic coordinates of the airport in existing Class D and Class E Airspace.

Regulatory Notices and Analyses

The FAA has determined that this regulation only involves an established body of technical regulations for which frequent and routine amendments are necessary to keep them operationally current. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120, E.O. 10854, 24 FR 9565, 3 CFR, 1959-1963 Comp., p. 389.

§ 71.1 [Amended]

2. The incorporation by reference in 14 CFR 71.1 of FAA Order 7400.11A, Airspace Designations and Reporting Points, dated August 3, 2016, effective September 15, 2016, is amended as follows:

Paragraph 5000 Class D Airspace.

* * * * *

AEA MD D Hagerstown, MD [Amended]

Hagerstown Regional Airport-Richard A. Henson Field, MD

(Lat. 39°42′31″ N., long. 77°43′35″ W.)

That airspace extending upward from the surface to and including 3,200 feet MSL within a 4.1-mile radius of Hagerstown Regional Airport-Richard A. Henson Field. This Class D airspace area is effective during the specific dates and times established in advance by Notice to Airmen. The effective date and time will thereafter be continuously published in the Chart Supplement.

Paragraph 6002 Class E Surface Area Airspace.

* * * * *

AEA MD E2 Hagerstown, MD [Amended]

Hagerstown Regional Airport-Richard A. Henson Field, MD

(Lat. 39°42′31″ N., long. 77°43′35″ W.)

That airspace extending upward from the surface within a 4.1-mile radius of Hagerstown Regional Airport-Richard A. Henson Field. This Class E airspace area is effective during the specific dates and times when the Class D airspace area, as published in the Chart Supplement, is not in effect.

Paragraph 6004 Class E Airspace Designated as an Extension to a Class D Surface Area.

* * * * *

AEA MD E4 Hagerstown, MD [Amended]

Hagerstown Regional Airport-Richard A. Henson Field, MD

(Lat. 39°42′31″ N., long. 77°43′35″ W.)

Hagerstown VOR

(Lat. 39°41′52″ N., long. 77°51′21″ W.)

Hagerstown Regional Airport-Richard A Henson Field ILS Runway 27 Localizer

(Lat. 39°42′22″ N., long. 77°44′41″ W.)

That airspace extending upward from the surface within 2.7 miles each side of the Hagerstown VOR 237° radial and 057° radial extending from 7.4 miles southwest of the VOR to 1.8 miles northeast of the VOR, and within 2.7 miles each side of the Hagerstown VOR 082° radial extending from the 4.1-mile radius of Hagerstown Regional Airport-Richard A Henson Field to the VOR, and within 4 miles each side of the Hagerstown Regional Airport-Richard A. Henson Field ILS Runway 27 localizer course extending from the localizer to 11.8 miles east of the localizer, excluding that portion within Prohibited Area P-40.

Paragraph 6005 Class E Airspace Areas Extending Upward from 700 feet or More Above the Surface of the Earth.

* * * * *

AEA MD E5 Hagerstown, MD [Amended]

Hagerstown Regional Airport-Richard A. Henson Field, MD

(Lat. 39°42′31″ N., long. 77°43′35″ W.)

Hagerstown VOR

(Lat. 39°41′52″ N., long. 77°51′21″ W.)

St. Thomas VORTAC

(Lat. 39°56′00″ N., long. 77°57′03″ W.)

Hagerstown Regional Airport-Richard A. Henson Field ILS Runway 27 Localizer

(Lat. 39°42′22″ N., long. 77°44′41″ W.)

That airspace extending upward from 700 feet above the surface within a 6.6-mile radius of the Hagerstown Regional Airport-Richard A. Henson Field, and within 3.1 miles each side of the Hagerstown VOR 237° radial and 057° radial extending from 9.6 miles southwest of the VOR to 2.7 miles northeast of the VOR, and within 4.4 miles each side of the Hagerstown Regional Airport-Richard A. Henson Field ILS Runway 27 localizer course extending from the localizer to 12.6 miles east of the localizer, and within 4.4 miles each side of the St. Thomas VORTAC 141° radial extending from the 6.6-mile radius to the St. Thomas VORTAC, excluding that portion within Prohibited Area P-40.

Issued in College Park, Georgia, on September 7, 2016.
Joey L. Medders,
Acting Manager, Operations Support Group, Eastern Service Center, Air Traffic Organization.

[FR Doc. 2016-22744 Filed 9-22-16; 8:45 am]

BILLING CODE 4910-13-P